DEPARTMENT OF ENERGY

Federal Energy Regulatory Commission

Combined Notice of Filings #2

Take notice that the Commission received the following electric rate filings:

Docket Numbers: ER13-398-000.

Applicants: The Detroit Edison Company.

Description: DTE Electric Company submits tariff filing per 35.19a(b): Refund Report to be effective N/A.

Filed Date: 11/3/15.

Accession Number: 20151103-5130.

Comments Due: 5 p.m. ET 11/24/15.

Docket Numbers: ER16-72-001.

Applicants: San Gorgonio Westwinds II—Windustries.

Description: Tariff Amendment: Amendment to 1 to be effective 11/24/2015.

Filed Date: 11/3/15.

Accession Number: 20151103-5141.

Comments Due: 5 p.m. ET 11/24/15.

Docket Numbers: ER16-206-001.

Applicants: Midcontinent Independent System Operator, Inc., ITC Midwest LLC.

Description: Tariff Amendment: 2015-11-03_SA 2862 ITC Midwest-WPL FSA Amendment (G870) to be effective 11/1/2015.

Filed Date: 11/3/15.

Accession Number: 20151103-5051.

Comments Due: 5 p.m. ET 11/24/15.

Docket Numbers: ER16-249-000.

Applicants: Eel River Power LLC.

Description: Tariff Cancellation: Cancellation of Market-Based Rate Tariff to be effective 11/4/2015.

Filed Date: 11/3/15.

Accession Number: 20151103-5049.

Comments Due: 5 p.m. ET 11/24/15.

Docket Numbers: ER16-250-000.

Applicants: ISO New England Inc., New England Power Pool Participants Committee.

Description: Section 205(d) Rate Filing: Revisions to the NCPC Credit Rules to be effective 2/1/2016.

Filed Date: 11/3/15.

Accession Number: 20151103-5164.

Comments Due: 5 p.m. ET 11/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2015.
Nathaniel J. Davis, Sr.,
Deputy Secretary.

[FR Doc. 2015-28419 Filed 11-6-15; 8:45 am]

BILLING CODE 6717-01-P